DEPARTMENT OF HOMELAND SECURITY

Coast Guard

[Docket No. USCG-2010-1066]

Recreational Boating Safety Projects, Programs, and Activities Funded Under Provisions of the Transportation Equity Act for the 21st Century; Fiscal Year 2015

AGENCY: Coast Guard, Homeland Security.

ACTION: Notice.

SUMMARY: In 1999, the Transportation Equity Act for the 21st Century made $5 million per year available for the payment of Coast Guard expenses for personnel and activities directly related to coordinating and carrying out the national recreational boating safety program. In 2005, the law was amended, and the amount was increased to $5.5 million. The Coast Guard is publishing this notice to satisfy a requirement of the Act that a detailed accounting of the projects, programs, and activities funded under the national recreational boating safety program provision of the Act be published annually in the Federal Register. This notice specifies the funding amounts the Coast Guard has committed, obligated, or expended during fiscal year 2015, as of September 30, 2015.

FOR FURTHER INFORMATION CONTACT: For questions on this notice, call Jeff Ludwig, Regulations Development Manager, telephone 202-372-1061.

SUPPLEMENTARY INFORMATION:

Background and Purpose

The Transportation Equity Act for the 21st Century became law on June 9, 1998 (Pub. L. 105-178; 112 Stat. 107). The Act required that of the $5 million made available to carry out the national recreational boating safety program each year, $2 million shall be available only to ensure compliance with Chapter 43 of Title 46, U.S. Code. On September 29, 2005, the Sportfishing and Recreational Boating Safety Amendments Act of 2005 was enacted (Public Law 109-74; 119 Stat. 2031). This Act increased the funds available to the national recreational boating safety program from $5 million to $5.5 million annually, and stated that “not less than” $2 million shall be available only to ensure compliance with Chapter 43 of Title 46, U.S. Code.

These funds are available to the Secretary from the Sport Fish Restoration and Boating Trust Fund established under 26 U.S.C. 9504(a) for payment of Coast Guard expenses for personnel and activities directly related to coordinating and carrying out the national recreational boating safety program. Under 46 U.S.C. 13107(c), no funds available to the Secretary under this subsection may be used to replace funding traditionally provided through general appropriations, nor for any purposes except those purposes authorized; namely, for personnel and activities directly related to coordinating and carrying out the national recreational boating safety program. Amounts made available under 46 U.S.C. 13107(c) remain available during the two succeeding fiscal years. Any amount that is unexpended or unobligated at the end of the 3-year period during which it is available, shall be withdrawn by the Secretary and allocated to the States in addition to any other amounts available for allocation in the fiscal year in which they are withdrawn or the following fiscal year.

Use of these funds requires compliance with standard Federal contracting rules with associated lead and processing times resulting in a lag time between available funds and spending. The total amount of funding transferred to the Coast Guard from the Sport Fish Restoration and Boating Trust Fund and committed, obligated, and/or expended during fiscal year 2015 for each activity is shown below.

Specific Accounting of Funds

Manufacturer Compliance Inspection Program/Boat Testing Program: Funding was provided to continue the national recreational boat compliance inspection program, initiated in January 2001. During the Fiscal Year contracted personnel, acting on behalf of the Coast Guard, visit recreational boat manufacturers, recreational boat dealers, and recreational boat shows to inspect for compliance with the Federal regulations. During the 2015 reporting year, inspectors performed 350 factory visits, 218 dealer visits, and 10 boat show visits resulting in 2,800 boats being inspected. Funding was also provided for testing of certain associated equipment and in-water testing of atypical and used recreational boats for compliance with capacity and flotation standards. ($1,587,370). Additional expenditures regarding this topic that are accounted for in the topics below are Contract Personnel Support ($103,253), Reimbursable Salaries ($143,222) and New Recreational Boating Safety Associated Travel ($5,526). Collectively, these expenditures, along with other potential projects, are considered to be applicable to the legal requirement that “not less than” $2 million be available to ensure compliance with Chapter 43 of Title 46, U.S. Code.

Boating Accident Report Database (BARD) Web System: Funding was allocated to continue providing the BARD Web System, which enables reporting authorities in the 50 States, five U.S. Territories, and the District of Columbia to submit their accident reports electronically over a secure Internet connection. The system also enables the user community to generate statistical reports that show the frequency, nature, and severity of boating accidents. Funds supported system maintenance, development, and technical (hotline) support. ($367,332).

Contract Personnel Support: Funding was provided for contract personnel to support the appropriate cost/benefit analyses for potential new regulations and to conduct general boating safety-related research and analysis and to assist the manufacturer compliance program. ($660,562).

Boating Accident News Clipping Services: Funding was provided to continue to gather daily news stories of recreational boating accidents nationally for more real time accident information and to identify accidents that may involve regulatory non-compliances or safety defects. ($25,000).

New Recreational Boating Safety Associated Travel: Funding was provided to facilitate travel by employees of the Boating Safety Division to carry out additional recreational boating safety actions and to gather background and planning information for new recreational boating safety initiatives. ($17,564).

Recreational Boating Safety Outreach Initiatives: Funding was provided to produce signage promoting recreational boating safety at the U.S. Coast Guard's Douglas A. Munro Headquarters Building, and to provide appropriate recognition to select individuals for outstanding achievements in promoting boating safety. ($2,487).

Reimbursable Salaries: Funding was provided to carry out the work as prescribed in 46 U.S.C. 13107(c) and as described herein. The first position was that of a professional mathematician/statistician to conduct necessary national surveys and studies on recreational boating activities as well as to serve as a liaison to other Federal agencies that are conducting boating surveys so that we can pool our resources and reduce costs. The second position was that of a Recreational Boating Safety Specialist/Marine Investigator with responsibilities that include overseeing and managing RBS projects related to carbon monoxide poisoning, propeller injury mitigation, and manufacturer compliance initiatives. The third position was that of a Legislative and Strategic Planning Manager, with responsibilities that include analyzing proposed and enacted legislation for RBS impacts, and managing the development and implementation of the National Recreational Boating Safety Program's strategic plan. The fourth position was that of a Division Administrative Assistant, with responsibilities that include providing administrative support for the Boating Safety Division. ($513,045).

Technical Support and Analysis for the Recreational Boating Safety Program: The purpose of this contract is to obtain Contractor professional, technical, and management support for services relating to the national survey development, nonprofit grants grading assessments, and other analysis as needed for the enhancement of the administration of the National Recreational Boating Safety Program. Projects covered by the contract include statistical analyses of data collected in the 2012 National Recreational Boating Survey and research on the implications of the findings relative to boating safety and the National Recreational Boating Safety Program; a review of scientific literature covering various measures of risk exposure in other transportation related fields; support in designing the next National Recreational Boating Survey; and development of a web-based system for review of national nonprofit organization grant submissions. ($130,847).

Of the $5.5 million made available to the Coast Guard in fiscal year 2015, $2,120,466 has been committed, obligated, or expended and an additional $1,183,741 of prior fiscal year funds have been committed, obligated, or expended, as of September 30, 2015. The remainder of the FY14 and FY15 funds made available to the Coast Guard (approximately $5,132,275) may be retained for the allowable period for the National Recreational Boating Survey or transferred into the pool of money available for allocation through the state grant program.

Authority

This notice is issued pursuant to 5 U.S.C. 552 and 46 U.S.C. 13107(c)(4).

Dated: December 2, 2015.
V.B. Gifford,
Captain, U.S. Coast Guard, Director of Inspections & Compliance.

[FR Doc. 2015-30884 Filed 12-7-15; 8:45 am]

BILLING CODE 9110-04-P